DEPARTMENT OF THE INTERIOR

Fish and Wildlife Service

National Park Service

[NPS-WASO-ANRSS-22067; PPWONRADE2, PMP00EI05.YP0000]

Draft Environmental Impact Statement/Grizzly Bear Restoration Plan, North Cascades Ecosystem, Washington

AGENCY: Fish and Wildlife Service and National Park Service, Interior.

ACTION: Notice of availability for public comment.

SUMMARY: The Fish and Wildlife Service (FWS) and the National Park Service (NPS) announce the availability of the Grizzly Bear Restoration Plan (plan)/Draft Environmental Impact Statement (DEIS) in the North Cascades Ecosystem (NCE), Washington. The plan/DEIS evaluates the impacts of a range of alternatives for restoring the grizzly bear to the United States (U.S.) portion of the NCE, a portion of its historical range.

DATES: All written comments on the plan/DEIS must be postmarked or submitted no later than March 14, 2017.

FOR FURTHER INFORMATION CONTACT: Please contact Denise Shultz, Public Information Officer, North Cascades National Park Service Complex at 360-854-7302, or Ann Froschauer, Public Affairs Supervisor, FWS Washington Fish and Wildlife Office at 360-753-4370. Information will be available for public review online at http://parkplanning.nps.gov/grizzlydeis; in the Office of the Superintendent, 810 State Route 20, Sedro-Woolley, WA 98284 (360-854-7200, telephone); and in the Washington Fish and Wildlife Office, 510 Desmond Dr. SE., Suite 102, Lacey, WA 98503 (360-753-9440).

SUPPLEMENTARY INFORMATION: The purpose of this plan/DEIS is to determine how to restore the grizzly bear to the NCE, a portion of its historical range. Action is needed at this time to:

• Avoid the permanent loss of grizzly bears in the NCE;

• Contribute to the restoration of biodiversity of the ecosystem for the benefit and enjoyment of present and future generations of people;

• Enhance the probability of long-term survival of grizzly bears in the NCE and thereby contribute to overall grizzly bear recovery; and

• Support the recovery of the grizzly bear to the point where it can be removed from the Federal List of Endangered and Threatened Wildlife.

This plan/DEIS evaluates the impacts of the no-action alternative (Alternative A) and three action alternatives (Alternatives B, C, and D).

Alternative A would continue existing management practices and assume no new management actions would be implemented beyond those available at the outset of the grizzly bear restoration planning process. Under Alternative A, grizzly bears would not be translocated into the NCE.

The action alternatives include capturing grizzly bears from outside the NCE and releasing them into the NCE for a period of time that is dependent on the particular alternative. The lead agencies would focus on translocating grizzly bears from areas that are ecologically similar to potential release sites. This may include grizzly bears from British Columbia, Canada, or the Northern Continental Divide ecosystem. All of the action alternatives include the replacement of translocated bears in the NCE which are lost from the population due to mortality or emigration during the period of initial releases.

The option to designate the NCE grizzly bear population as an experimental population under section 10(j) of the Endangered Species Act could be applied to any of the action alternatives. The DEIS will assess the potential impacts associated with designating, or not designating, an experimental population under each action alternative; therefore, the DEIS will serve as our National Environmental Policy Act analysis for the proposed restoration effort and any 10(j) experimental population rule.

Alternative B would involve an initial release of up to 10 grizzly bears followed by a period of monitoring in which additional releases would not occur. The alternative would then either repeat the initial release or default to alternative C as described below. At the conclusion of the initial release, there would be a period of adaptive management where additional bears could be released based on a number of factors including human-caused sources of mortality, genetic limitations, population trends, and the adjustment of the sex ratio.

Alternative C would involve the yearly release of up to 5 grizzly bears for a 5 to 10-year period to achieve an initial population of 25 grizzly bears. At the conclusion of these releases, there would be an adaptive management period where additional grizzly bears could be released based on a number of factors including human-caused sources of mortality, genetic limitations, population trends, and the adjustment of the sex ratio.

Alternative D would involve the yearly release of the maximum number of grizzly bears available for capture (anticipated to be 5 to 7 bears) until the minimum population estimate in the NCE reaches 200 grizzly bears.

The U.S. Forest Service and the Washington Department of Fish and Wildlife are cooperating agencies on this plan/DEIS.

Public Participation: After the Environmental Protection Agency Notice of Availability is published, the FWS and NPS will schedule public meetings to be held during the comment period throughout the NCE. Dates, times, and locations of these meetings will be announced in press releases and on the NPS Planning, Environment, and Public Comment Web site for the plan/DEIS at http://parkplanning.nps.gov/grizzlydeis.

How to Comment: You are encouraged to comment on the plan/DEIS online at http://parkplanning.nps.gov/grizzlydeis. You may also mail or hand-deliver your comments to the Superintendent, North Cascades National Park Service Complex, 810 State Route 20, Sedro-Woolley, WA 98284. Written comments will also be accepted during scheduled public meetings discussed above. Comments will not be accepted by fax, email, or by any method other than those specified above. Bulk comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

Dated: December 13, 2016.
Jon Raby,
Acting Regional Director, Pacific Region, Fish and Wildlife Service.
Dated: December 19, 2016.
Laura E. Joss,
Regional Director, Pacific West Region, National Park Service.

[FR Doc. 2017-00616 Filed 1-12-17; 8:45 am]

BILLING CODE 4312-52-P